DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Socioeconomics of Commercial Fishers and For Hire Diving and Fishing Operations in the Flower Garden Banks National Marine Sanctuary.

OMB Control Number: None.

Form Number(s): None.

Type of Request: Regular submission.

Number of Respondents: 80.

Average Hours per Response: 3.

Burden Hours: 240.

Needs and Uses: The National Marine Sanctuaries Act (16 U.S.C. 1431, et seq.) authorizes the use of research and monitoring within National Marine Sanctuaries (NMS). In 1996, the Flower Gardens Bank National Marine Sanctuary (FGBNMS) was added to the system of NMS via 15 CFR part 922, subpart L. In 2001, Stetson Bank was added in a revision of 15 CFR part 922.

The National Marine Sanctuaries Act (NMSA) specifies that each NMS should revise their management plans on a five-year cycle. The FGBNMS has begun the management plan review process. The NMSA also allows for the creation of Sanctuary Advisory Councils (SACs). SACs are comprised of representatives of all NMS stakeholders. Management Plan Review (MPR) is a public process and the SACs, along with a series of public meetings, are used to help scope out issues in revising the management plans and regulations. SAC Working Groups are often used to evaluate management or regulatory alternatives. In the current MPR for the FGBNMS, two major issues have emerged: Boundary expansion and research-only areas. In addition, several new or modified regulations are being considered to meet specific needs for diver safety and resource protection (no anchoring/mooring buoy use requirement and a more stringent pollution discharge regulation).

To address each of these issues, a socioeconomic panel composed of NOAA staff and social scientists from other agencies, or from universities, will develop information and tools to assess the socioeconomic impacts of management strategies and regulatory alternatives. The information and tools developed in this process will also provide the necessary information for meeting agency requirements for socioeconomic impact analyses under the National Environmental Policy Act (NEPA), Executive Order 12086 (Regulatory Impact Review) and an Initial and Final Regulatory Flexibility Analysis (impacts on small businesses). The first step in the assessment process will be to interview three key sanctuary user groups—commercial fishers, for hire recreational dive operations and for hire recreational fishing operations (charter and party/head boat operations)—with questions focusing on: (1) General information, economic information and trip costs; and (2) knowledge, attitudes and perceptions of sanctuary management strategies and regulations.

Affected Public: Business or other for-profit organizations.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 28, 2009.
Gwellnar Banks,
Management Analyst, Office of the Chief Information Officer.

[FR Doc. E9-18366 Filed 7-31-09; 8:45 am]

BILLING CODE 3510-NK-P